DEPARTMENT OF ENERGY

Federal Energy Regulatory Commission

[Project No. 2416-009; South Carolina]

Aquenergy Systems, Inc.; Notice of Availability of Final Environmental Assessment

April 8, 2002.

In accordance with the National Environmental Policy Act of 1969 and the Federal Energy Regulatory Commission's (Commission) regulations, 18 CFR Part 380 (Order No. 486, 52 F.R. 47897), the Office of Energy Projects has reviewed the application for license for the Ware Shoals Hydroelectric Project and has prepared a Final Environmental Assessment (FEA) for the project. The project is located on the Saluda River, in the Town of Ware Shoals, within the counties of Laurens, Greenwood, and Abbeville, South Carolina. No federal lands or facilities are occupied or used by the project.

The FEA contains the staff's analysis of the potential environmental impacts of the project and concludes that licensing the project, with appropriate environmental protective measures, would not constitute a major federal action that would significantly affect the quality of the human environment.

A copy of the FEA is on file with the Commission and is available for public inspection. The FEA may also be viewed on the web at http://www.ferc.gov using the “RIMS” link—select “Docket #” and follow the instructions (call 202-208-2222 for assistance).

For further information, contact Timothy Looney at (202) 219-2852.

Magalie R. Salas,
Secretary.

[FR Doc. 02-9036 Filed 4-12-02; 8:45 am]

BILLING CODE 6717-01-P